INTERNATIONAL TRADE COMMISSION

[Investigation Nos. 731-TA-1092 and 1093 (Preliminary)]

Diamond Sawblades and Parts Thereof From China and Korea

Determination

On the basis of the record ¹ developed in the subject investigations, the United States International Trade Commission (Commission) determines, pursuant to section 733(a) of the Tariff Act of 1930 (19 U.S.C. 1673b(a)) (the Act), that there is a reasonable indication that an industry in the United States is materially injured ² or threatened with material injury³ by reason of imports from China and Korea of diamond sawblades and parts thereof, provided for in subheading 8202.39.00 of the Harmonized Tariff Schedule of the United States, that are alleged to be sold in the United States at less than fair value (LTFV).

¹ The record is defined in sec. 207.2(f) of the Commission's Rules of Practice and Procedure (19 CFR 207.2(f)).

² Chairman Stephen Koplan, Commissioner Jennifer A. Hillman, and Commissioner Charlotte R. Lane determine that there is a reasonable indication that an industry in the United States is materially injured by reason of imports of diamond sawblades and parts thereof from China and Korea.

³ Vice Chairman Deanna Tanner Okun, Commissioner Marcia E. Miller, and Commissioner Daniel R. Pearson determine that there is a reasonable indication that an industry in the United States is threatened with material injury by reason of imports of diamond sawblades and parts thereof from China and Korea.

Pursuant to section 207.18 of the Commission's rules, the Commission also gives notice of the commencement of the final phase of its investigations. The Commission will issue a final phase notice of scheduling, which will be published in the Federal Register as provided in section 207.21 of the Commission's rules, upon notice from the Department of Commerce (Commerce) of an affirmative preliminary determination in the investigations under section 733(b) of the Act, or, if the preliminary determination is negative, upon notice of an affirmative final determination in those investigations under section 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On May 3, 2005, a petition was filed with the Commission and Commerce by the Diamond Sawblade Manufacturers' Coalition and its individual members: Blackhawk Diamond, Inc., Fullerton, CA; Diamond B, Inc., Santa Fe Springs, CA; Diamond Products, Elyria, OH; Dixie Diamond, Lilburn, GA; Hoffman Diamond, Punxsutawney, PA; Hyde Manufacturing, Southbridge, MA; Sanders Saws, Honey Brook, PA; Terra Diamond, Salt Lake City, UT; and Western Saw, Inc., Oxnard, CA, alleging that an industry in the United States is materially injured and threatened with material injury by reason of LTFV imports of diamond sawblades and parts thereof from China and Korea. Accordingly, effective May 3, 2005, the Commission instituted antidumping duty investigation Nos. 731-TA-1092-1093 (Preliminary).

Notice of the institution of the Commission's investigations and of a public conference to be held in connection therewith was given by posting copies of the notice in the Office of the Secretary, U.S. International Trade Commission, Washington, DC, and by publishing the notice in the Federal Register of May 10, 2005 (70 FR 24612) and May 26, 2005 (70 FR 30480). The conference was held in Washington, DC, on June 15, 2005, and all persons who requested the opportunity were permitted to appear in person or by counsel.

The Commission transmitted its determination in these investigations to the Secretary of Commerce on July 18, 2005. The views of the Commission are contained in USITC Publication 3791 (August 2005), entitled Diamond Sawblades and Parts Thereof from China and Korea: Investigation Nos. 731-TA-1092 and 1093 (Preliminary).

Issued: July 25, 2005.
By order of the Commission.
Marilyn R. Abbott,
Secretary to the Commission.

[FR Doc. 05-15023 Filed 7-28-05; 8:45 am]

BILLING CODE 7020-02-P